DEPARTMENT OF COMMERCE

International Trade Administration

A-570-846

Brake Rotors From the People's Republic of China: Initiation of New Shipper Review

AGENCY: Import Administration, International Trade Administration, Department of Commerce

EFFECTIVE DATE: November 30, 2006.

SUMMARY: The Department of Commerce (the “Department”) received a timely request to conduct a new shipper review of the antidumping duty order on brake rotors from the People's Republic of China (“PRC”). In accordance with 19 CFR 351.214(d)(1), we are initiating a review for Longkou Qizheng Auto Parts Co., Ltd. (“Qizheng”).

FOR FURTHER INFORMATION CONTACT: Frances Veith or Blanche Ziv, AD/CVD Operations, Office 8, Import Administration, International Trade Administration, U.S. Department of Commerce, 14th Street and Constitution Avenue, NW, Washington, DC 20230; telephone: (202) 482-4295 and (202) 482-4207, respectively.

SUPPLEMENTARY INFORMATION: The Department received a timely request from Qizheng on October 31, 2006, pursuant to section 751(a)(2)(B) of the Tariff Act of 1930, as amended (“the Act”), and in accordance with 19 CFR 351.214(c), for a new shipper review of the antidumping duty order on brake rotors from the PRC. See Notice of Antidumping Duty Order: Brake Rotors from the People's Republic of China, 62 FR 18740 (April 17, 1997).

Pursuant to 19 CFR 351.214(b)(2)(i), 19 CFR 351.214(b)(2)(iii)(A), and 19 CFR 351.214(b)(2)(iii)(B), in its request for a new shipper review, Qizheng certified that as a producing exporter it did not export brake rotors to the United States during the period of investigation (“POI”); that since the initiation of the investigation it has never been affiliated with any company that exported subject merchandise to the United States during the POI; and that its export activities were not controlled by the central government of the PRC.

In accordance with 19 CFR 351.214(b)(2)(iv), Qizheng submitted documentation establishing the following: (1) the date on which it first shipped brake rotors for export to the United States; (2) the volume of its first shipment; and (3) the date of its first sale to an unaffiliated customer in the United States.

Initiation of New Shipper Review

In accordance with section 751(a)(2)(B) of the Act and 19 CFR 351.214(d)(1), and based on information on the record, we find that Qizheng's request meets the initiation threshold requirements and we are initiating a new shipper review for shipments of brake rotors produced and exported by Qizheng. See Memorandum to the File through Wendy J. Frankel, Director, New Shipper Initiation Checklist, dated, November 22, 2006. The Department will conduct this new shipper review according to the deadlines set forth in section 751(a)(2)(B)(iv) of the Act.

Pursuant to 19 CFR 351.214(g)(1)(i)(B), the period of review (“POR”) for a new shipper review, normally initiated in the month immediately following the semiannual anniversary month, will be the six-month period immediately preceding the semiannual anniversary month. Therefore, the POR for the new shipper review of Qizheng will be April 1, 2006, through September 30, 2006.

Pursuant to the Department's regulations, in cases involving non-market economies, the Department requires that a company seeking to establish eligibility for an antidumping duty rate separate from the country-wide rate provide evidence of de jure and de facto absence of government control over the company's export activities. Accordingly, we will issue a questionnaire to Qizheng, including a separate rate section. The review will proceed if the responses provide sufficient indication that Qizheng is not subject to either de jure or de facto government control with respect to its exports of brake rotors. However, if Qizheng does not demonstrate its eligibility for a separate rate, the company will be deemed not separate from other companies that exported during the POI, and the new shipper review for Qizheng will be rescinded.

On August 17, 2006, the Pension Protection Act of 2006 (H.R. 4) was signed into law by Congress. Section 1632 of H.R. 4 temporarily suspends the authority of the Department to instruct U.S. Customs and Border Protection to collect a bond or other security in lieu of a cash deposit in new shipper reviews. Therefore, the posting of a bond or other security under section 751(a)(2)(B)(iii) of the Act in lieu of a cash deposit is not available in this case. Importers of brake rotors exported and produced by Qizheng must continue to post a cash deposit of estimated antidumping duties on each entry of subject merchandise (i.e., brake rotors) at the PRC-wide entity rate of 43.32 percent.

Interested parties that need access to proprietary information in this new shipper review should submit applications for disclosure under administrative protective order in accordance with 19 CFR 351.305 and 351.306.

This initiation and notice are issued in accordance with section 751(a)(2)(B) of the Act and 19 CFR 351.214 and 351.221(c)(1)(i).

Dated: November 22, 2006.
Susan H. Kuhbach
Acting Deputy Assistant Secretary for Import Administration.

[FR Doc. E6-20256 Filed 11-29-06; 8:45 am]

BILLING CODE 3510-DS-S